DEPARTMENT OF HEALTH AND HUMAN SERVICES

Centers for Disease Control and Prevention

[Program Announcement 04111]

World Health Organization (WHO): Addressing Emerging Infectious Diseases; Notice of Intent To Fund Single Eligibility Award

A. Purpose

The Centers for Disease Control and Prevention (CDC) announces the intent to fund fiscal year (FY) 2004 funds for a cooperative agreement program for improving infectious disease surveillance, building public health infrastructure, detecting and responding to infectious disease outbreaks worldwide, and implementing improved infectious disease prevention and control strategies. The Catalog of Federal Domestic Assistance number for this program is 93.283.

B. Eligible Applicant

Assistance will be provided only to World Health Organization (WHO). WHO is the only international/intergovernmental agency qualified to conduct the activities under this cooperative agreement because:

WHO is the lead technical agency for health within the United Nations with 192 member governments and is therefore the recognized authority for coordinating global and regional health efforts involving multiple countries and institutions.

WHO has a robust global infrastructure that gives it direct access to and enables it to work with multiple national ministries of health and other critical health institutions through its headquarters in Geneva, Switzerland and six regional offices: Regional Office for Africa in Brazzaville, Republic of Congo; Regional Office for Europe in Copenhagen, Denmark; Regional Office for South-East Asia in New Delhi, India; Regional Office for the Americas/Pan-American Health Organization in Washington DC, USA; Regional Office for the Eastern Mediterranean in Cairo, Egypt; and Regional Office for the Western Pacific in Manila, Philippines.

WHO is the recognized pinnacle worldwide health organization to which national governments and regional health authorities look to for guidance and coordination of national, regional, and worldwide health programs. No other organization has the history, breadth of experience, existing worldwide infrastructure, and established relationship, stature, and authority among the world's national government health agencies that would allow it to successfully carry out activities under this cooperative agreement that require supervision, coordination, collaboration, and access to multiple governments and health organizations.

C. Funding

Approximately $1,000,000 is available in FY 2004 to fund this award. It is expected that the award will begin on or before July 1, 2004, and will be made for a 12-month budget period within a project period of up to five years. Funding estimates may change.

D. Where To Obtain Additional Information

For general comments or questions about this announcement, contact: Technical Information Management, CDC Procurement and Grants Office, 2920 Brandywine Road, Atlanta, GA 30341-4146, Telephone: 770-488-2700.

For technical questions about this program, contact: Greg J. Jones, M.P.A., Project Officer, National Center for Infectious Diseases, CDC, Mailstop C-12, Atlanta, Georgia 30333, Telephone: (404) 639-4180, E-mail: GJJones@cdc.gov.

Dated: May 24, 2004.
William P. Nichols,
Acting Director, Procurement and Grants Office, Centers for Disease Control and Prevention.

[FR Doc. 04-12223 Filed 5-28-04; 8:45 am]

BILLING CODE 4163-18-P